FEDERAL MARITIME COMMISSION

Ocean Transportation Intermediary License: Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants

Sapphire Cargo Movers, Incorporated, Sapphire Logistics Center, Multinational Access Road, Multinational Village, Paranaque City, 1700, Philippines, Officers: Ernesto S. Levanza, President (Qualifying Individual); Angelo S. Levanza, Jr., Vice President.

Larimar Envios & Cargo Express, Inc., 80 West 49th Street, Hialeah, FL 33012, Officers: Jose V. Garcia, President (Qualifying Individual); Diana A. Ruiz, Director.

Blue Ocean Shipping, Inc., 814 N. Central Avenue, Wood Dale, IL 60191, Officer: Bong Sub Kim, President (Qualifying Individual).

Infinity Trans Inc., 117 N. 3rd Street, New Hyde Park, NY 11040, Officers:

Wing Fei Ng, President (Qualifying Individual), Cham Lim, Vice President.

Non-Vessel Operating Common Carrier and Ocean Freight Forwarder Transportation Intermediary Applicants

Mentfield Logistics Corp., 39 Avenue of the Commons, Suite 200, Shrewsbury, NJ 07302, Officers: Arik Yochai, CEO/President (Qualifying Individual), Silvester Colona, Secretary.

Catania CHB Inc. dba International, Inc., 10 Buckingham Lane, Bohemia, NY 11716, Officer: Joseph S. Catania, President (Qualifying Individual).

World Logistics Consulting Inc., 665 Perry Lane, Hoffman Estates, IL 60169-3128, Officer: Keun Taeg Kwon, President (Qualifying Individual).

PK Road Logistics, Inc., 18039 Crenshaw Blvd., #307, Torrance, CA 90504, Officers: Kevin Hoon Kim, CFO (Qualifying Individual), Peter Park, President.

EZ Cruise, Inc., 1209 67th Street, Baltimore, MD 21237, Officer: Akbar Omar, President (Qualifying Individual).

Ocean Freight Forwarder—Ocean Transportation Intermediary Applicant

CJC Logistics LLC dba CJC Logistics, 186 Alps Road, Wayne, NJ 07470, Officers: Oliver Rosca, President (Qualifying Individual), Maria L. Rosca, CFO.

Dated: July 13, 2007.
Bryant L. VanBrakle,
Secretary.

[FR Doc. E7-13939 Filed 7-17-07; 8:45 am]

BILLING CODE 6730-01-P